DEPARTMENT OF AGRICULTURE

Forest Service

Deschutes National Forest; Deschutes and Klamath Counties, Oregon; Ringo Project Draft Environmental Impact Statement and Forest Plan Amendment

AGENCY: Forest Service, USDA.

ACTION: Notice to extend the public comment period for the Ringo Draft Environmental Impact Statement for a proposed Forest Plan amendment.

SUMMARY: The Deschutes National Forest is issuing this notice to advise the public of a 45-day extension to the public comment period on the project-specific Forest Plan amendment proposed in the Ringo Project Draft Environmental Impact Statement (DEIS). This extended 45-day comment period is for the amendment, which includes the substantive provisions and relevant analysis.

DATES: The comment period ends September 5, 2017. All relevant comments received during the extended public comment period related to the proposed amendment, including the substantive provisions, will be considered in the preparation of the Final Environmental Impact Statement (FEIS).

ADDRESSES: Comments may be submitted by any one of the following methods:

• Electronic Submissions: Comments can be filed electronically at: comments-pacificnorthwest-deschutes-crescent@fs.fed.us. Electronic comments must be submitted as part of the email message or as an attachment in plain text (.txt), Microsoft Word (.doc), rich text format (.rtf), or portable document format (.pdf). Emails submitted to addresses other than the one listed above, or in formats other than those listed or containing viruses, will be rejected.

• Mail: Written, specific comments must be submitted to Daniel Rife, District Ranger, Crescent Ranger District, at P.O. Box 208, (136471 Hwy. 97 N.) Crescent, Oregon 97733, or FAX at (541) 433-3224.

Instructions: Comments sent by any other method, to any other address or individual, or received after the end of the comment period may not be considered by the forest. All comments received are part of the public record and will generally be posted for public viewing without change. All personal identifying information (e.g., name, address, etc.), confidential business information, or otherwise sensitive information submitted voluntarily by the sender will be publicly accessible.

This opportunity for comment applies only to the analysis associated with the proposed Forest Plan Amendment. Previously submitted comments will be considered and should not be resubmitted. Previous commenters will have eligibility to object under 26 CFR 218.5.

FOR FURTHER INFORMATION CONTACT: Joseph Bowles, Project Team Leader, Crescent Ranger District, Deschutes National Forest, (541) 433-3200, or via email at jkbowles@fs.fed.us. Individuals who use telecommunication devices for the deaf (TDD) may call the Federal Information Relay Service (FIRS) at 1-800-877-8339 between 8 a.m. and 8 p.m., Eastern Time, Monday through Friday. Electronic copies of the Draft Environmental Impact Statement may be found on the Forest Service Web site at http://data.ecosystem-management.org/nepaweb/nepa_project_exp.php?project=46900.

SUPPLEMENTARY INFORMATION: The original Notice of Availability published in the Federal Register on March 17, 2017 (82 FR 14217). The 2012 Planning Rule, as amended, requires identification in the initial notice of the amendment of the substantive provisions that are likely to be directly related to the amendment. The Notice of Intent (NOI) did not identify the substantive provisions, and the analysis in the DEIS did not identify nor address the substantive provisions.

As identified in the DEIS, the Ringo Project would be exempt from the following Standard and Guideline of the 1990 Deschutes Land and Resource Management Plan (LRMP):

Scenic Views, Foreground (M9-90; LRMP p. 4-131), “Low intensity prescribed fires will be used to meet and promote the Desired Visual Condition within each stand type. Prescribed fire and other fuel management techniques will be used to minimize the hazard of large high intensity fire. In foreground areas, prescribed fires will be small, normally less than 5 acres and shaped to appear as natural occurrences. . . .” In the Ringo DEIS planning area several of these areas are along major access routes in fire-adapted ponderosa pine and mixed conifer. This site-specific Forest Plan Amendment will modify 242 acres of the Scenic Views, Foreground Standards and Guidelines (M9-90 in Scenic Views, LRMP 4-121) to allow an increase in the size of prescribed burn units while utilizing underburning to mimic natural process and creating a mosaic pattern of burning on the landscape.

Substantive provisions of 36 CFR 219.8 through 219.11 that apply to the proposed amendment for Ringo DEIS Purpose and Need are:

219.8(a)(1)(v) Wildland fire and opportunities to restore fire adapted ecosystems.

The following two provisions would be applicable to the effects from implementing this Forest Plan Amendment.

219.10(a)(1) Aesthetic values, air quality, cultural and heritage resources, ecosystem services, fish and wildlife species, forage, geologic features, grazing and rangelands, habitat and habitat connectivity, recreation settings and opportunities, riparian areas, scenery, soil, surface and subsurface water quality, timber, trails, vegetation, viewsheds, wilderness, and other relevant resources and uses.

219.10(a)(7) Reasonably foreseeable risks to ecological, social, and economic sustainability.

Dated: June 23, 2017.
Jeanne M. Higgins,
Acting Associate Deputy Chief, National Forest System.

[FR Doc. 2017-14821 Filed 7-18-17; 8:45 am]

BILLING CODE 3411-15-P